OFFICE OF THE UNITED STATES TRADE REPRESENTATIVE

Trade Policy Staff Committee; Solicitation of Public Comments on Institutional Improvements to the World Trade Organization (WTO), Particularly With Respect to the Transparency of its Operations and Outreach to Civil Society

ACTION: Notice and request for comments.

SUMMARY: The Trade Policy Staff Committee (TPSC) is soliciting public comments on U.S. objectives and proposals for improving the functioning of the WTO, particularly with respect to its outreach activities and the transparency of its operations, and in light of the WTO's ongoing work program and mandated negotiations in agriculture and services. Attention is drawn to the solicitation of Public Comments for the Mandated Multilateral Trade Negotiations on Agriculture and Services in the WTO and Priorities for Future Market Access Negotiations on Non-Agricultural Goods, published on March 28, 2000 (Volume 65, Number 60). That notice called for public comments on general as well as specific negotiating objectives. The issues of outreach and transparency are on-going matters before the WTO and the subject of continuing consultations conducted under the auspices of the WTO General Council. It is also anticipated that, like other internation institutions, the WTO will need to continue to consider appropriate responses to the challenges as well as the benefits offered by “globalization” as its future agenda is fashioned. The TPSC, therefore, also welcomes comments on whether and how the WTO might undertake activities to ensure that the social, environmental and development dimensions of continued trade liberalization are adqquately addressed. Comments received will be considered by the Executive Branch in formulating U.S. positions for these discussions and deliberations.

DATES: Public comments are due by July 10, 2000.

ADDRESSES: Office of the United States Trade Representative, 600 17th Street, NW., Washington, DC 20508.

FOR FURTHER INFORMATION CONTACT: Paul Moore, Office of WTO and Multilateral Affairs, at (202) 395-5097, or Karissa Kovner, Office of the Environment and Natural Resources, at (202) 395-6169. Procedural inquiries concerning the public comment process should be directed to Gloria Blue, Executive Secretary, Trade Policy Staff Committee, Office of the United States Trade Representative, (202) 395-3475.

SUPPLEMENTARY INFORMATION: Information about the WTO can be obtained via the WTO website (www.wto.org) Attention is also drawn to the 2000 Trade Policy Agenda and 1999 Annual Report of the President of the United States on the Trade Agreements Program, which can be found on USTR's website (www.ustr.gov) via the “What's New” icon. Chapter 2 of the Report presents a report to the Congress assessing the first five years' operation of the WTO, the annexes to which contain substantial background information on the WTO, its organization and the work of its Councils and Committees. Also accessible via USTR's website are U.S. submissions made to the WTO General Council as part of the preparatory process for the third WTO Ministerial Conference in December 1999, including submissions covering agricultural, services and non-agcultural market access as well as trade and sustainable development, trade and core labor standards and WTO institutional issues (e.g., transparency and openness). Information about U.S. contributions to and participation in the WTO's 1999 High Level Meeting on Trade and the Environment can also be obtained via the “What's New” icon. Finally, the USTR home page includes a recent communication from USTR to the Chairman of the WTO General Council reiterating U.S. priorities for improving the internal and external transparency of the WTO and its subsidiary bodies.

The TPSC invites written comments from the public on the important institutional issues raised about the WTO in terms of its openness and accountability, including its outreach to citizens. The Administration has been active in seeking institutional improvements to the WTO, while preserving its intergovernmental nature. For example, the United States has consistently called for the WTO to build upon past progress by (i) expanding the range of WTO documents available to the public; (ii) strengthening the guidelines for consultations with non-governmental organizations (NGOs); (iii) enhancing the WTO's program of symposia and consultations on specific topics of mutual interest; (iv) expanding and improving the use of Internet facilities to reach more stakeholders in more creative ways; and (v) broadening the range of WTO meetings and events that would be open to the public. Last year, the United States specifically called upon the WTO membership to agree upon methods to permit the organizations of civil society (including businesses, labor organizations, agricultural producers, environmental groups, academic associations and others) to observe meetings, as appropriate, and share views as Member delegations develop policy. The United States has proposed updating the 1996 WTO General Council Decisions on Document Derestriction and Relations with NGOs as a near term opportunity for making progress in certain of these areas, but additional opportunities and progress should be pursued—including with respect to opening dispute settlement panel proceedings to public observation and clarifying procedures for acceptance of amicus curiae submissions from interested non-governmental parties.

In terms of dispute settlement, the United States has proposed that the WTO procedures include a mechanism to permit non-governmental stakeholders to present their written views on disputes, and that the WTO allow the public to observe WTO panel and appellate proceedings. The United States continues to urge other WTO Members to work with the United States to enhance the transparency of the WTO dispute settlement process, through changes in the working procedures applied in individual disputes, and through an ongoing assessment of the operation of the WTO Dispute Settlement Understanding.

The United States has taken many steps on its own to improve the transparency of the WTO dispute settlement process. USTR seeks public comment, through a Federal Register notice, on every dispute settlement proceeding where the United States is a party. USTR also makes its written submissions to panels and the WTO Appellate Body available to the public as soon as they are submitted. The United States routinely requests the parties to any WTO case (even cases in which it is not a party) to provide it with a copy of their submissions or non-confidential summaries for release to the public.

USTR makes WTO panel reports available to the public upon receipt, and the WTO makes WTO panel and Appellate Body reports available on the Internet for downloading the day after they are circulated in Geneva, and sometimes the same day. This is also true of other WTO documents regarding disputes. The consultation requests and panel requests in every dispute are circulated to all WTO Members in all three official languages (English, French and Spanish) as public documents, and immediately put on the WTO website. Any member of the public can access WTO documents through the Internet and follow the progress of WTO disputes on that website. In this way, members of the public can find out from these WTO documents that there will be a panel proceeding and what issues the panel will address, even before the panel is established.

Written Comments

Comments are welcome with as much specificity as the respondent can provide on the range of opportunities which should be sought for achieving greater transparency and openness as well as on the nature of achievements to be sought. The Administration is particularly interested in determining if there are additional mechanisms that can be utilized to ensure broader interaction with consumer and other parties interested in developments in the WTO and the trading system. This is part of a broader dialogue initiated by the Administration these issues. Submissions need not duplicate submissions provided in response to the March 28 solicitation regarding objectives for the mandated negotiations in agriculture and services and potential industrial market access negotiation.

Persons submitting written comments should provide twenty (20) copies no later than July 10, 2000 to Gloria Blue, Executive Secretary, Trade Policy Staff Committee, Office of the United States Trade Representative, Room 122, 600 17th Street Northwest, Washington, DC 20508. Written comments submitted in connection with this request, except for information granted “business confidential” status pursuant to 15 CFR 2003.6, will be available for public inspection in the USTR Reading Room, Room 101, Office of the United States Trade Representative, 600 17th Street, Northwest, Washington, DC. An appointment to review the file may be made by calling Brenda Webb at 202-395-6186. The Reading Room is open to the public from 10:00 a.m. to 12 noon, and from 1 p.m. to 4 p.m., Monday through Friday.

Business confidential information will be subject to the requirements of 15 CFR 2003.6. Any business confidential material must be clearly marked as such on the cover letter or page and each succeeding page, and must be accompanied by a non-confidential summary thereof. If the submission contains business confidential information, twenty copies of a public version that does not contain confidential information must be submitted. A justification as to why the information contained in the submission should be treated confidentially must be included in the submission. In addition, any submissions containing business confidential information must be clearly marked “Confidetnial” at the top and bottom of the cover page (or letter) and each succeeding page of the submission. The version that does not contain confidential information should also be clearly marked at the top and bottom of each page “Public Version” or “Non-Confidential.”

Carmen Suro-Bredie,
Chair, Trade Policy Staff Committee.

[FR Doc. 00-14514 Filed 6-7-00; 8:45 am]

BILLING CODE 3901-01-M